Title 3—

The President

Proclamation 10939 of May 16, 2025

Asian American and Pacific Islander Heritage Month, 2025

By the President of the United States of America

A Proclamation

Throughout our history, the United States has been strengthened by the contributions of citizens from every background, united in the shared pursuit of the American Dream. As we recognize Asian American and Pacific Islander Heritage Month, we celebrate the deep and enduring impact that Asian Americans and Pacific Islanders have had on our Nation. Forged by hardship and trial, they have never wavered in their contributions toward the advancement of our common destiny.

In the 1980s, Lakshmi and Radhakrishna Chilukuri immigrated from India to the United States and dedicated their lives to higher education. They built a life in America and raised a family, their daughters Usha and Shreya, instilling in them the values of hard work, perseverance, and a love of learning. Their daughter, Usha, now serves as the Second Lady of the United States. Tulsi Gabbard, a native of American Samoa, has dedicated her career to protecting our Republic, serving in the military and now as the Director of National Intelligence. Today, more than 77,000 Asian American and Pacific Islanders heroically serve our Nation in the Armed Forces. Their stories, along with many others, have helped build a stronger, safer, and more prosperous country.

This month, we honor the proud legacy of Asian Americans and Pacific Islanders and their contributions to the vast constellation of all our national triumphs. They are woven into the fabric of our Republic, reminding us that the American spirit is one of resilience, independence, and relentless pursuit of freedom and opportunity.

NOW, THEREFORE, I, DONALD J. TRUMP, President of the United States of America, by virtue of the authority vested in me by the Constitution and the laws of the United States, do hereby proclaim May 2025 as Asian American and Pacific Islander Heritage Month. The Congress, by Public Law 102-450, as amended, has also designated the month of May each year as “Asian/Pacific American Heritage Month.” I encourage all Americans to learn more about those of Asian American, Native Hawaiian, and Pacific Islander heritage and to observe this month with appropriate programs and activities.

IN WITNESS WHEREOF, I have hereunto set my hand this sixteenth day of May, in the year of our Lord two thousand twenty-five, and of the Independence of the United States of America the two hundred and forty-ninth.

[FR Doc. 2025-09337

Filed 5-21-25; 8:45 am]

Billing code 3395-F4-P